NATIONAL CREDIT UNION ADMINISTRATION

Sunshine Act: Notice of Agency Meeting

TIME AND DATE: 10:00 a.m., Thursday, October 15, 2020.

PLACE: Due to the COVID-19 Pandemic, the meeting will be open to the public via live webcast only. Visit the agency's homepage (www.ncua.gov.) and access the provided webcast link.

STATUS: This meeting will be open to the public.

MATTERS TO BE CONSIDERED:

1. Board Briefing, Cybersecurity Considerations for Boards of Directors During COVID-19.

2. NCUA Rules and Regulations, Derivatives.

3. NCUA Rules and Regulations, Corporate Credit Unions.

4. Request for Information, Supervisory Guidance Review and Improvements in Communications.

CONTACT PERSON FOR MORE INFORMATION: Melane Conyers-Ausbrooks, Secretary of the Board, Telephone: 703-518-6304.

Melane Conyers-Ausbrooks,
Secretary of the Board.

[FR Doc. 2020-22748 Filed 10-9-20; 11:15 am]

BILLING CODE 7535-01-P